DEPARTMENT OF COMMERCE

National Telecommunications and Information Administration

[Docket No. 120928505-2505-01]

RIN 0660-XC002

Development of the Nationwide Interoperable Public Safety Broadband Network

AGENCY: National Telecommunications and Information Administration, U.S. Department of Commerce.

ACTION: Notice of inquiry.

SUMMARY: The National Telecommunications and Information Administration (NTIA) issues this Notice of Inquiry (NOI) on behalf of the First Responder Network Authority (FirstNet) to seek public comment on the conceptual network architecture presentation made at the FirstNet Board of Directors' meeting held on September 25, 2012, as well as to invite input on other network design and business plan considerations. NTIA also seeks comment on the general concept of how to develop applications for public safety users as discussed at the FirstNet Board meeting. FirstNet intends to use the input received from this process to shape its efforts to establish the interoperable public safety broadband network based on a single, nationwide network architecture called for under the Middle Class Tax Relief and Job Creation Act of 2012 (Act).¹

¹ Middle Class Tax Relief and Job Creation Act of 2012, Public Law 112-96, 126 Stat. 156 (2012) (Act).

DATES: Comments must be received no later than November 1, 2012 at 5:00 p.m. Eastern Daylight Time.

ADDRESSES: Written comments may be submitted by email to firstnetnoi@ntia.doc.gov. Written comments also may be submitted by mail to: National Telecommunications and Information Administration, U.S. Department of Commerce, 1401 Constitution Avenue NW., HCHB Room 7324, Attn: FirstNet NOI, Washington, DC 20230. Please note that all material sent via the U.S. Postal Service (including “Overnight” or “Express Mail”) is subject to delivery delays of up to two weeks due to mail security procedures. Responders should include the name of the person or organization filing the comment, as well as a page number, on each page of their submissions. Paper submissions should also include a CD or DVD with an electronic version of the document, which should be labeled with the name and organizational affiliation of the filer. Do not submit Confidential Business Information or otherwise sensitive or protected information. All email messages and comments received are a part of the public record and will generally be posted without change to the NTIA Web site at http://www.ntia.doc.gov/federal-register-notice/2012/comments-nationwide-interoperable-public-safety-broadband-network-noi. All personal identifying information (e.g., name, address) voluntarily submitted by the commenter may be publicly accessible. Comments should not exceed 25 double-spaced pages.

FOR FURTHER INFORMATION CONTACT: Uzoma Onyeije, Senior Advisor for Public Safety, National Telecommunications and Information Administration, U.S. Department of Commerce, 1401 Constitution Avenue NW., Room 7324, Washington, DC 20230; telephone: (202) 482-0016; email: uonyeije@ntia.doc.gov. Please direct media inquiries to NTIA's Office of Public Affairs, (202) 482-7002.

SUPPLEMENTARY INFORMATION:

Background

The Middle Class Tax Relief and Job Creation Act of 2012 created the First Responder Network Authority (FirstNet) as an independent authority within NTIA and authorized it to take all actions necessary to ensure the building, deployment, and operation of a nationwide public safety broadband network (PSBN) based on a single, national network architecture.² FirstNet is responsible for, at a minimum, ensuring nationwide standards for use and access of the network; issuing open, transparent, and competitive requests for proposals (RFPs) to build, operate, and maintain the network; leveraging, to the maximum extent economically desirable, existing commercial wireless infrastructure to speed deployment of the network; and overseeing contracts with non-federal entities to build, operate, and maintain the network.³

² 47 U.S.C. 1422(b).

³ 47 U.S.C. 1426(b)(1).

FirstNet is headed by a Board of Directors (Board) with 15 voting members.⁴ The FirstNet Board held its first public meeting on September 25, 2012, during which it took action on several organizational and administrative items, including approving resolutions to adopt its bylaws, create a State, Regional, Local, and Tribal Consultation Committee, and request the Federal Communications Commission (FCC) transfer the public safety spectrum license to FirstNet. FirstNet Board member Craig Farrill shared a presentation outlining a possible framework for designing the public safety network architecture in a manner that leverages existing resources and infrastructure, as is contemplated in the Act. Specifically, the FirstNet Nationwide Network (FNN) concept would leverage the significant investments and combined efforts of the public sector and the commercial wireless industry to achieve the major elements of the nationwide wireless network called for under the Act, including ubiquitous coverage, reliable, redundant, and interoperable service, at reduced costs and with accelerated availability. The presentation of the FNN concept is available for review on NTIA's Web site at http://www.ntia.doc.gov/files/ntia/publications/firstnet_fnn_presentation_09-25-2012_final.pdf.

⁴ 47 U.S.C. 1424.

FirstNet Board Chairman Sam Ginn also discussed a general concept for developing applications designed specifically for public safety users. Under this general concept, FirstNet would seek to understand what applications federal, state, local, and tribal public safety users would like to see developed. FirstNet would define interface and certification requirements for FirstNet applications, and would call on innovators to develop applications for public safety to use to do its job better and more safely. The public safety community could download these applications, thus enabling public safety users nationwide to benefit from individual innovations.

These conceptual presentations mark a starting point for further discussions.

Request for Comments

On behalf of the FirstNet Board, NTIA requests public comments on the FNN conceptual network design model presented at the FirstNet Board meeting. NTIA also solicits input from interested stakeholders on other options that the FirstNet Board should consider in meeting the Act's requirements to deploy the PSBN based on a single, nationwide network architecture that evolves with technological advancements. FirstNet is particularly interested in receiving innovative ideas on how it can deploy a reliable, ubiquitous, redundant, and interoperable broadband network for public safety users. NTIA invites the submission of proposals that address the following criteria:

1. Meets public safety's requirements for priority, quality of service, and preemption features;

2. Uses, to the extent possible, existing radio access network and core network infrastructure installed by commercial mobile operators in order to maximize the coverage and performance delivered to public safety while minimizing the capital expenditures;

3. Reaches operational capability as quickly as possible; and

4. Enables voice services (cellular telephony and push-to-talk (PTT)) both within the FirstNet network as well as to/from other commercial networks, including the public switched telephone network (PSTN).

Any proposal submitted in response to this NOI should: (1) Describe all of the assumptions necessary for the proposal to succeed; (2) identify the specific opportunities or benefits the proposal provides in meeting the Act's objectives and the criteria enumerated above; (3) discuss any existing challenges or obstacles that must be overcome to realize the proposal; and (4) specify any areas in need of further research and development to ensure the success of the proposal.

NTIA also seeks input from all stakeholders on the FirstNet Board's conceptual discussion of a potential framework for developing applications for public safety use. Commenters should: (1) Provide suggestions for applications that would benefit public safety users; (2) address what interface requirements and other information innovators need in order to develop applications in an open environment; (3) address what specific security requirements public safety needs in its applications; (4) provide ideas as to what framework or organizational factors would allow for the development of the greatest number of quality applications; (5) provide specific suggestions for FirstNet's applications certification requirements; (6) discuss possible delivery methods (e.g., app store models) under the FNN conceptual architecture model presented at the FirstNet Board meeting or based on any alternative network design models that commenters propose; and (7) provide comment on any other issues that FirstNet should consider in facilitating the development of public safety applications.

Dated: September 28, 2012.
Lawrence E. Strickling,
Assistant Secretary for Communications and Information.

[FR Doc. 2012-24469 Filed 10-3-12; 8:45 am]

BILLING CODE 3510-60-P